DEPARTMENT OF TRANSPORTATION

Federal Highway Administration

Final Environmental Impact Statement; Jefferson and Lewis & Clark Counties, MT

AGENCY: Federal Highway Administration (FHWA), DOT.

ACTION: Notice of availability.

SUMMARY: In compliance with the National Environmental Policy Act of 1969 and the Montana Environmental Policy Act (MEPA), the FHWA, in cooperation with the Montana Department of Transportation (MDT), has prepared a Final Environmental Impact Statement (FEIS) for proposed transportation improvements along the I-15 Corridor in Lewis & Clark and Jefferson Counties, Montana. The alternative evaluated in the FEIS include the Preferred Alternative (Alternative 1), Alternative 2 and the No-Action Alternative, and their associated social, economic and environmental impacts. Interested citizens are invited to review the Final EIS and submit comments. Copies of the Final EIS may be obtained by telephoning or writing the contact persons listed below under the FOR FURTHER INFORMATION CONTACT heading. Public reading copies of the Final EIS are available at the locations listed under SUPPLEMENTARY INFORMATION.

DATES: A 30-calendar-day public review period will begin on November 21, 2003. Written comments on the alternatives and impacts to be considered must be received by MDT by December 22, 2003.

ADDRESSES: Written comments on the Final EIS should be addressed to Mr. Mark Studt, P.E., Project Manager, Montana Department of Transportation, 2701 Prospect Avenue, Helena, MT 59601. Mr. Studt's e-mail address is mstudt@state.mt.us. Copies of the Final EIS are available for public inspection and review at the locations provided in the SUPPLEMENTARY INFORMATION section below.

FOR FURTHER INFORMATION CONTACT: To request copies of the Final EIS or for additional information, contact Mr. Mark Studt, Project Manager, Montana Department of Transportation, 2701 Prospect Avenue, Helena MT, 59601, Telephone: (406) 444-9191, or Mr. Carl James, Transportation Specialist, FHWA Montana Division, 2880 Skyway Drive, Helena MT, 59602, Telephone: (406) 449-5302, extension 238.

SUPPLEMENTARY INFORMATION: Copies of the Final EIS are available in hard copy format for public inspection at:

• Montana Department of Transportation, Environmental Services, 2701 Prospect Avenue, Room 111, Helena MT, 59601, 406-444-0804.

• Federal Highway Administration, Montana Division Office, 2880 Skyway Drive, Helena, MT 59602, 406-449-5302.

• Jefferson County, Clerk & Recorder's Office, Jefferson County Courthouse, Boulder, MT 59632, 406-225-4020.

• Lewis & Clark County, City and County Transportation Office, City and County Building, Room 404, 316 North Park, Helena, MT 59601, 406-447-8457.

• East Helena City Hall, City Clerk's Office, 7 E. Main St., East Helena, MT 59635, 406-227-5321.

• Rossiter Elementary School, 1497 E. Sierra Road, Helena, MT 59602, 406-447-8860.

• Lewis & Clark County Library, 120 S. Last Chance Gulch, Helena, MT 59601, 406-447-1690.

• Boulder Community Library, 202 South Main, Boulder, MT 59632, 406-225-3241.

• Broadwater Community Library, 201 North Spruce, Townsend, MT 59644, 406-266-5060.

• Clancy Library, 6 North Main, Clancy, MT 59634, 406-933-5254.

• Bob's Valley Market, 7507 N. Montana Avenue, Helena, MT 59602, 406-458-5140.

• Montana City Store, 1 Jackson Creek Road, Montana City, MT 59634, 406-442-6625.

• Carter & Burgess, Inc., 707 17th Street, Suite 2300, Denver, CO 80202, 303-820-4894.

To receive a copy of the FEIS on CD or on-line, please contact Mr. Mark Studt at the address provided above.

Background

The Final EIS provides a detailed evaluation of the proposed transportation improvements along I-15 between the Montana City interchange and the Lincoln Road interchange and identifies a Preferred Alternative. The study area lies within the city of Helena, and in Lewis & Clark and Jefferson Counties, MT. The study area extends approximately 19 kilometers (12 miles) from Reference Post 187 to Reference Post 200. The Final EIS includes an examination of purpose and need, alternatives evaluated, travel demand, affected environment, environmental consequences, and mitigation measures as a result of the improvements under consideration. The identified Preferred Alternative (Alternative 1), Alternative 2 and a No-Action Alternative are presented in the Final EIS.

The Preferred Alternative (Alternative 1) is a composite of transportation improvements including a new South Helena interchange and a new northern interchange at Custer Avenue. This alternative is designed to optimize corridor transportation improvement without incurring undesirable environmental impacts. This alternative is enhanced by including five supporting elements to complete the proposed improvements. The major components of the alternative are:

• New interchange at South Helena

• Interchange improvements at Capitol

• New interchange at Custer Avenue

• Conceptual design for widening of Custer Avenue between N. Montana Avenue and N. Washington Street includes four travel lanes with a median/turn lane and bicycle/pedestrian envelopes. Final design will determine the exact configuration.

• Construction of two auxiliary lanes (each direction) on I-15 between Custer Avenue and the Capitol interchange plus appropriate transitions for adding and dropping the auxiliary lanes (to be determined in final design).

• Minor realignment of east side Frontage Road at Custer Avenue.

• Replacement of the twin I-15 bridges over the Montana Rail Link railroad.

• Supporting elements:

• Montana City interchange improvements

• Connect west side Frontage Road between Montana City and Colonial Drive

• Broadway underpass for pedestrian and bicycle use

• Widen Cedar Street to five lanes from I-15 to N. Montana Avenue

• Lincoln Road interchange improvements

The FHWA, MDT, and other local agencies invite interested individuals, organizations, and Federal, State, and local agencies to comment on the evaluated alternatives and associated social, economic, or environmental impacts and mitigation measures related to the alternatives.

Issued on: November 10, 2003.
Dale W. Paulson,
Program Development Engineer, Montana Division, Federal Highway Administration, Helena, Montana.

[FR Doc. 03-28740 Filed 11-17-03; 8:45 am]

BILLING CODE 4910-22-M